DEPARTMENT OF HOMELAND SECURITY

Coast Guard

[Docket No. USCG-2023-0098]

Notice of Publication of Vessel Traffic Services National Standards for Operating COMDTINST 16630.3B

AGENCY: Coast Guard, DHS.

ACTION: Notice of availability.

SUMMARY: The Coast Guard announces the publication of the Vessel Traffic Services National Standards of Operating Commandant Instruction (COMDTINST) 16630.3B. This instruction replaces the Vessel Traffic Services National Standards of Operating Procedures COMDTINST M16630.3A. This instruction provides programmatic guidance to all Coast Guard Sectors and Vessel Traffic Services.

ADDRESSES: You can find a copy of the COMDTINST 16630.3B posted in the docket by searching docket number USCG-2023-0098 at https://www.regulations.gov.

FOR FURTHER INFORMATION CONTACT: For information about this document call or email Darin Mathis, Coast Guard; telephone 202-372-1559, email darin.e.mathis@uscg.mil.

SUPPLEMENTARY INFORMATION:

Discussion

The Coast Guard announces the publication and availability of the COMDTINST 16630.3B. This COMDTINST includes information on the use of communications, surveillance equipment and Captain of the Port or VTS specific regulatory authority. We have posted a copy of the COMDTINST 16630.3B in the docket where indicated under the ADDRESSES section.

Section 70001 of Title 46, United States Code, delegated to the Coast Guard in Department of Homeland Security Delegation No. 00170, Revision No. 01.3, requires the Coast Guard to establish a national policy which is inclusive of local variances and publish such policy in the Federal Register. This Federal Register notice is intended to meet this requirement.

This notice is issued under authority of 46 U.S.C. 70001.

Dated: February 28, 2023.
Michael D. Emerson,
Director, Marine Transportation System, U.S. Coast Guard.

[FR Doc. 2023-04468 Filed 3-3-23; 8:45 am]

BILLING CODE 9110-04-P